Proclamation 8822 of May 14, 2012

150th Anniversary of the United States Department of Agriculture

By the President of the United States of America

A Proclamation

On May 15, 1862, President Abraham Lincoln signed legislation to establish the United States Department of Agriculture (USDA) and codified a commitment to the health of our people and our land. One hundred and fifty years later, USDA continues to realize that vision of service by applying sound public policy and science to an evolving food and agriculture system.

The USDA has stood shoulder-to-shoulder with the American people for generations. During the Great Depression, the Department helped bring an end to the Dust Bowl by promoting soil conservation. Through two World Wars, the Victory Garden Program fed troops and families around the world. The USDA worked to bring electric power to rural communities, establish the Supplemental Nutrition Assistance and School Lunch Programs, implement our Nation’s food safety regulations, and protect our forests and private lands. For one-and-a-half centuries, USDA has empowered communities across our country and helped ensure we leave our children a future rich with promise and possibility.

Today, USDA continues to serve the public interest by providing leadership on agriculture, natural resources, safe and nutritious food, research, and a broad spectrum of related issues. With partners across the public sector and throughout industry, USDA is working to develop and expand markets for agricultural products, grow our businesses and our economy, and protect the quality of our food supply and our environment. As part of the White House Rural Council, the Department is striving to expand opportunity for millions of families by promoting job growth and investing in infrastructure that will drive progress in the 21st century. Through the Feed the Future initiative, USDA is supporting America’s commitment to combat hunger and improve food security worldwide. And with the America’s Great Outdoors initiative, USDA is supporting community-based conservation initiatives that will preserve our natural heritage for generations to come.

As we commemorate this historic milestone, we pay tribute to the men and women of USDA, past and present, who have faithfully served our Nation for 150 years. For their commitment, our fields grow richer, our abundance grows greater, and our country stands stronger.

NOW, THEREFORE, I, BARACK OBAMA, President of the United States of America, by virtue of the authority vested in me by the Constitution and the laws of the United States, do hereby proclaim May 15, 2012, as the 150th Anniversary of the United States Department of Agriculture. I call upon all Americans to observe this day with appropriate programs, ceremonies, and activities that honor the United States Department of Agriculture for its lasting contributions to the welfare of our Nation.

IN WITNESS WHEREOF, I have hereunto set my hand this fourteenth day of May, in the year of our Lord two thousand twelve, and of the Independence of the United States of America the two hundred and thirty-sixth.

[FR Doc. 2012-12224

Filed 5-17-12; 8:45 am]

Billing code 3295-F2-P